DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Information Program Fishing Effort Survey.

OMB Control Number: 0648-0652.

Form Number(s): NA.

Type of Request: Regular submission (revision of a current information collection).

Number of Respondents: 153,000.

Average Hours per Response: 10 minutes.

Burden Hours: 25,500.

Needs and Uses: This request is for revision of a current information collection. The title will be changed from “Marine Recreational Information Program” to “Marine Recreational Information Program Fishing Effort Survey”.

Marine recreational anglers are surveyed to collect catch and effort data, fish biology data, and angler socioeconomic characteristics. These data are required to carry out provisions of the Magnuson-Stevens Fishery Conservation and Management Act (MSA, 16 U.S.C. 1801 et seq.), as amended, regarding conservation and management of fishery resources.

Marine recreational fishing effort data have traditionally been collected through the Coastal Household Telephone Survey, a random-digit-dial telephone survey of coastal county residences. Amendments to the MSA require the development of an improved data collection program for recreational fisheries. To meet these requirements, the National Oceanic and Atmospheric Administration's (NOAA) Fisheries has designed and tested new approaches for sampling and surveying recreational anglers. Revision: A mail survey that samples from residential address frames and collects information on the number of marine recreational anglers and the number of recreational fishing trips is currently being tested in MA, NY, NC and FL. The survey will be expanded to all Atlantic and Gulf coast states (except TX), HI and Puerto Rico.

Affected Public: Individuals or households.

Frequency: On occasion.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 15, 2013.
Gwellnar Banks,
Management Analyst, Office of the Chief Information Officer.

[FR Doc. 2013-17299 Filed 7-18-13; 8:45 am]

BILLING CODE 3510-22-P